ENVIRONMENTAL PROTECTION AGENCY

[EPA-HQ-OAR-2021-0951; FRL-9474-01-OAR]

Withdrawal of Broadly Applicable Alternative Test Methods

AGENCY: Environmental Protection Agency (EPA).

ACTION: Notice of withdrawal.

SUMMARY: This notice announces the withdrawal of broadly applicable alternative test method approval decisions for Alternatives 125 and 127 (or ALT-125 and ALT-127) that the Environmental Protection Agency (EPA) made in 2018 under Standards of Performance for New Residential Wood Heaters.

DATES: The withdrawal of the broadly applicable alternative test methods ALT-125 and ALT-127 will become effective February 23, 2022.

FOR FURTHER INFORMATION CONTACT: Electronic copies of supporting documents for both alternative test method withdrawals are available at Docket ID No. EPA-HQ-OAR-2021-0951. For questions about this notice, contact Mrs. Lula H. Melton, Air Quality Assessment Division, Office of Air Quality Planning and Standards (E143-02), Environmental Protection Agency, Research Triangle Park, NC 27711; telephone number: (919) 541-2910; fax number: (919) 541-0516; email address: melton.lula@epa.gov.

SUPPLEMENTARY INFORMATION:

I. General Information

A. Does this notice apply to me?

This notice will be of interest to entities regulated under 40 CFR part 60, subpart AAA—Standards of Performance for New Residential Wood Heaters; state, local, and tribal agencies; and the EPA Regional offices responsible for implementation and enforcement of regulations under 40 CFR part 60, subpart AAA—Standards of Performance for New Residential Wood Heaters.

B. How can I get copies of this information?

You may access copies of documents supporting our broadly applicable alternative test method withdrawal decision at Docket ID No. EPA-HQ-OAR-2021-0951.

II. Background

The Administrator has the authority to approve the use of alternative test methods for compliance with requirements under 40 CFR parts 60, 61, and 63. This authority is found in 40 CFR 60.8(b)(3), 61.13(h)(1)(ii), and 63.7(e)(2)(ii). Additional and similar authority can be found in 40 CFR 59.104(f) and 65.158(a)(2). The criteria for approval and procedures for submission and review of broadly applicable alternative test methods are explained in a previous Federal Register notice published at 72 FR 4257 (January 30, 2007) and located at https://www.epa.gov/emc/broadly-applicable-approved-alternative-test-methods. As explained in this notice, we will announce approvals for broadly applicable alternative test methods at https://www.epa.gov/emc/broadly-applicable-approved-alternative-test-methods as they are issued and publish an annual notice that summarizes approvals for broadly applicable alternative test methods during the preceding year.

This notice relates to two broadly applicable alternative test methods that EPA approved in 2018 for Standards of Performance for New Residential Wood Heaters, 40 CFR part 60, subpart AAA. Specifically, ALT-125 allowed for the use of ASTM E3053-17 and ASTM E2515-11, both with the changes specified in the Agency's approval letter dated February 28, 2018 (revised on August 22, 2018), and Canadian Standards Administration (CSA) Method CSA-B415.1-10, as an alternative to test methods and procedures for certification of standards that are contained in 40 CFR 60.534. Similarly, as an alternative to 40 CFR 60.534, ALT-127 allowed the use of ASTM E3053-17 and ASTM E2515-11, both with the changes specified in the Agency's approval letter dated April 13, 2018, and CSA Method CSA-B415.1-10. Further, alternatives 125 and 127 were included in the Federal Register notice published on March 4, 2019 (84 FR 7363).

III. Withdrawal of Approved Alternative Test Methods

As explained in our January 30, 2007 notice, we will revisit approvals of alternative test methods in response to written requests or objections indicating that a particular approved alternative test method either should not be broadly applicable or that its use is not appropriate or should be limited in some way. Any objection to a broadly applicable alternative test method, as well as the resolution of that objection, will be announced at https://www.epa.gov/emc/broadly-applicable-approved-alternative-test-methods and in a subsequent Federal Register notice.

On April 28, 2021, the Alaska Department of Environmental Conservation (Alaska) requested that the Office of Air Quality Planning and Standards (OAQPS) withdraw previously approved broadly applicable alternative test methods ALT-125 and ALT-127, which, as earlier explained, are used for compliance test purposes to certify residential wood heaters pursuant to 40 CFR part 60, subpart AAA. According to Alaska, ASTM E3053-17 provides too much flexibility such that a test lab, while conducting compliance testing, may “explore” avenues within the test method in order to find approaches for passing any appliance, regardless of design, ultimately resulting in a certification program where a manufacturer simply pays the lab to provide a passing test, rather than objectively measure the actual emissions from their appliance. Further, on May 21, 2021, nine State Attorneys General requested OAQPS to withdraw both ALT-125 and ALT-127 citing a recent Northeast States for Coordinated Air Use Management (NESCAUM) report that found serious concerns with EPA's implementation of subpart AAA and QQQQ certification programs. In addition, in July, August, and September of 2021, Alaska submitted seven test reports to OAQPS in support of their withdrawal request. For more detailed information, please refer to the supporting documents available at Docket ID No. EPA-HQ-OAR-2021-0951.

After a thorough review and evaluation of these requests as well as data from Alaska's test reports, on December 20, 2021, OAQPS decided to formally withdraw ALT-125 and ALT-127 as broadly applicable alternative test methods for Standards of Performance for New Residential Wood Heaters, 40 CFR part 60, subpart AAA. This Federal Register notice formalizes our withdrawal of Alternatives 125 and 127 as broadly applicable alternative test methods and announces the removal of both test methods from the Broadly Applicable Approved Alternative Test Methods web page.

The withdrawal of the broadly applicable alternative test methods ALT-125 and ALT-127 will become effective February 23, 2022. Certification tests completed prior to the effective date using ALT-125 or ALT-127 for residential wood heater applications pursuant to 40 CFR part 60, subpart AAA will be considered valid if otherwise meeting all certification requirements of the subpart (40 CFR 60.531).

Certification tests using ALT-125 or ALT-127 completed after the effective date for withdrawal of these alternative test methods will not be valid certification tests pursuant to 40 CFR 60.531 and 60.534(a)(2).

Renewal or recertification of a wood heater model line that was previously certified using ALT-125 or ALT-127 will not be granted a waiver from certification testing pursuant to 40 CFR 60.533(i)(2) or 60.533(k)(1) and must be retested using a valid test method at the time of application for renewal or recertification.

Dated: January 19, 2022.
Richard A. Wayland,
Director, Air Quality Assessment Division.

[FR Doc. 2022-01298 Filed 1-21-22; 8:45 am]

BILLING CODE 6560-50-P